ENVIRONMENTAL PROTECTION AGENCY

[FRL-7485-2]

Arsenic Treatment Demonstrations

AGENCY: Environmental Protection Agency.

ACTION: Notice.

SUMMARY: The U.S. Environmental Protection Agency (USEPA) plans to conduct the second phase of a demonstration program on the treatment (reduction and/or removal) of arsenic in drinking water. The notice on the first phase of the program was published on March 28, 2002 (67 FR 14951). The USEPA recently promulgated a standard that limits arsenic concentrations in drinking water to 10 ug/l. Through this demonstration program, the USEPA intends to identify and evaluate the ability of commercially available technologies and engineering or other approaches to cost effectively meet the new standard in small water systems (<10,000 customers). Through this notice, the USEPA is inviting the public at large, governmental and regulatory agencies, public health agencies, and drinking water utilities to identify small water utilities that may be interested in hosting a demonstration at their facility. Such utilities should be those which will require treatment to comply with the new arsenic standard. Unless it is desired to update the information submitted earlier, utilities that responded to the March 28, 2002 Notice do not need to resubmit. Those utilities will be included automatically in the second phase. This notice does not constitute a procurement.

DATES: Please submit the requested information by July 15, 2003.

ADDRESSES: Details on participation in this study can be found at: http://www.epa.gov/ORD/NRMRL/arsenic/.

FOR FURTHER INFORMATION CONTACT: Robert Thurnau, National Risk Management Research Laboratory, U.S. Environmental Protection Agency, 26 West Martin Luther King Drive, Cincinnati, Ohio, 45268, telephone (513) 569-7504.

Dated: April 2, 2003.
Lee A. Mulkey,
Acting Director, National Risk Management Research Laboratory.

[FR Doc. 03-9622 Filed 4-17-03; 8:45 am]

BILLING CODE 6560-50-P